DEPARTMENT OF DEFENSE

Department of the Navy

Meeting of the Chief of Naval Operations (CNO) Executive Panel

AGENCY: Department of the Navy, DoD.

ACTION: Notice of open meeting.

SUMMARY: The CNO Executive Panel will deliberate on the findings and proposed recommendations of the Subcommittee on Improved Concept Generation Development. The matters to be discussed include: Navy's concept generation and concept development processes and procedures.

DATES: The meeting will be held on April 30, 2010, at 10 a.m. and last no longer than two hours.

ADDRESSES: The meeting will be held in the Boardroom, CNA, 4825 Mark Center Drive, Alexandria, VA 22311-1846. Some members of the Executive Panel may participate remotely via teleconference and webinar.

FOR FURTHER INFORMATION CONTACT: Ms. Bree A. Hartlage, CNO Executive Panel, 4825 Mark Center Drive, Alexandria, VA 22311-1846, 703-681-4907.

SUPPLEMENTARY INFORMATION: Individuals or interested groups may submit written statements for consideration by the Chief of Naval Operations Executive Panel at any time or in response to the agenda of the scheduled meeting. All requests or statements must be submitted to the Designated Federal Officer at the address detailed below at least five days prior to the meeting to allow adequate time for consideration. Requests or statements will not be allowed during the meeting that is the subject of this notice.

The Designated Federal Officer will review all timely submissions with the CNO Executive Panel Chairperson and will ensure they are provided to members of the CNO Executive Panel before the meeting that is the subject of this notice.

Individuals desiring to participate remotely via teleconference or webinar must submit their contact information (to include e-mail address) to Ms. Hartlage via the below address. There will be limited availability to participate remotely and requests will be handled on a first-come, first-served basis.

To contact the Designated Federal Officer, write to Executive Director, CNO Executive Panel (N00K), 4825 Mark Center Drive, 2nd Floor, Alexandria, VA 22311-1846.

Dated: April 7, 2010.
A.M. Vallandingham,
Lieutenant Commander, Judge Advocate General's Corps, U.S. Navy, Federal Register Liaison Officer.

[FR Doc. 2010-8661 Filed 4-14-10; 8:45 am]

BILLING CODE 3810-FF-P